DEPARTMENT OF THE INTERIOR

National Park Service

[NPS-WASO-NAGPRA-NPS0040120; PPWOCRADN0-PCU00RP14.R50000]

Notice of Inventory Completion: Field Museum, Chicago, IL

AGENCY: National Park Service, Interior.

ACTION: Notice.

SUMMARY: In accordance with the Native American Graves Protection and Repatriation Act (NAGPRA), the Field Museum has completed an inventory of human remains and associated funerary objects and has determined that there is a cultural affiliation between the human remains and associated funerary objects and Indian Tribes or Native Hawaiian organizations in this notice.

DATES: Repatriation of the human remains and associated funerary objects in this notice may occur on or after June 13, 2025.

ADDRESSES: June Carpenter, NAGPRA Director, Field Museum, 1400 S Lake Shore Drive, Chicago, IL 60605, telephone (312) 665-7820, email jcarpenter@fieldmuseum.org.

SUPPLEMENTARY INFORMATION: This notice is published as part of the National Park Service's administrative responsibilities under NAGPRA. The determinations in this notice are the sole responsibility of the Field Museum, and additional information on the determinations in this notice, including the results of consultation, can be found in its inventory or related records. The National Park Service is not responsible for the determinations in this notice.

Abstract of Information Available

Human remains representing, at least, four individuals have been identified. The three lots of associated funerary objects are modified stones and glass beads.

On April 17, 1929, one individual was removed from Placer County, California. The individual was accessioned by the Museum on February 29, 1932, as part of a larger collection. There is no known presence of any potentially hazardous substances.

On or around March 16, 1903, one individual with one lot of associated funerary objects was removed from Placer County, California. The one lot of associated funerary objects is glass beads. The individual and associated funerary objects were accessioned by the Field Museum on October 24, 1903. There is no known presence of any potentially hazardous substances.

On or before March 17, 1903, one individual with one lot of associated funerary objects was removed from Sutter County, California near Marysville. The one lot of associated funerary objects is modified stones. During this same period, one individual with one lot of associated funerary objects was removed from Yuba County, California near Marysville. The one lot of associated funerary objects is modified stones. The two individuals and associated funerary objects were accessioned by the Field Museum on October 24, 1903.

There is no known presence of any potentially hazardous substances.

Cultural Affiliation

Based on the information available and the results of consultation, cultural affiliation is clearly identified by information available about the human remains and associated funerary objects described in this notice.

Determinations

The Field Museum has determined that:

• The human remains described in this notice represent the physical remains of four individuals of Native American ancestry.

• The three lots of objects described in this notice are reasonably believed to have been placed intentionally with or near individual human remains at the time of death or later as part of the death rite or ceremony.

• There is a connection between the human remains and associated funerary objects described in this notice and the United Auburn Indian Community of the Auburn Rancheria of California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after June 13, 2025. If competing requests for repatriation are received, the Field Museum must determine the most appropriate requestor prior to repatriation. Requests for joint repatriation of the human remains and associated funerary objects are considered a single request and not competing requests. The Field Museum is responsible for sending a copy of this notice to the Indian Tribes and Native Hawaiian organizations identified in this notice.

Authority: Native American Graves Protection and Repatriation Act, 25 U.S.C. 3003, and the implementing regulations, 43 CFR 10.10.

Dated: April 30, 2025.
Melanie O'Brien,
Manager, National NAGPRA Program.

[FR Doc. 2025-08474 Filed 5-13-25; 8:45 am]

BILLING CODE 4312-52-P